DEPARTMENT OF TRANSPORTATION

Federal Aviation Administration

[Docket No. FAA-2025-2633]

Electric Vertical Takeoff and Landing and Advanced Air Mobility Integration Pilot Program—Announcement of Establishment of Program and Request for Proposals

AGENCY: Federal Aviation Administration (FAA), DOT.

ACTION: Notice of the establishment of the Electric Vertical Takeoff and Landing (eVTOL) and Advanced Air Mobility (AAM) Integration Pilot Program (eIPP) and request for proposals.

SUMMARY: The Department of Transportation (DOT), through the Federal Aviation Administration (FAA), announces a new eVTOL and AAM Integration Pilot Program (eIPP) that will accelerate the deployment of safe and lawful eVTOL and other AAM aircraft operations in the United States. The eIPP requests that State, local, tribal, and territorial (SLTT) governments, in partnership with a private sector partner(s) with demonstrated experience in eVTOL or other AAM development, manufacturing, and operations, or new supporting technologies enabling AAM operations integration into the NAS, submit proposals. The eIPP continues the DOT's efforts to integrate eVTOL and other AAM aircraft developed or offered by a United States-based entity into the National Airspace System (NAS) by identifying the most effective partnerships to test and validate operational concepts that can be scaled to national and international applications. SLTT governments and their private sector partner(s) will propose and define these operational concepts under the safety oversight role of the FAA.

DATES: Interested SLTT governments must submit a proposal to participate in the eIPP in accordance with the SIR posted to sam.gov no later than 3 p.m. ET on December 11, 2025.

FOR FURTHER INFORMATION CONTACT: For general Program questions, Mr. Wade Terrell, Acting Director, Advanced Air Mobility Operations Division, 490 L'Enfant Plaza SW (Suite 500), Washington, DC 20024; telephone (405) 423-7936; email 9-AWA-eIPP@faa.gov; or, for solicitation questions, Mrs. Kristin Frantz, Contracting Officer, AAQ-590, UAS and Emerging Technologies Branch, Federal Aviation Administration, 1701 Columbia Avenue, College Park, GA 30337; telephone (404) 305-5779; email: Kristin.T.Frantz@faa.gov.

SUPPLEMENTARY INFORMATION:

Background

In Executive Order 14307, Unleashing American Drone Dominance, dated June 6, 2025, the President declared that it is the policy of the United States to accelerate the safe commercialization of UAS technologies and fully integrate UAS into the NAS, as well as eVTOL and other AAM aircraft operations.¹ The President directed the Secretary of Transportation, acting through the Administrator of the FAA and in coordination with the Director of the Office of Science and Technology Policy (OSTP), to establish an Integration Pilot Program under which SLTT governments can partner with private sector organizations with demonstrated experience in eVTOL or other AAM development, manufacturing, and operations, or new supporting technologies enabling AAM operations integration into the NAS.

¹ A copy of the President's Executive Order has been placed in this docket.

Working with leading partners across industry and government, the DOT is utilizing the opportunity provided by the Executive Order to demonstrate that America can build and deploy the safe and beneficial AAM technologies envisioned in the United States National Strategy to Support Advanced Air Mobility (National Strategy). The DOT and the FAA are seeking partners who can deliver successful outcomes by working cooperatively with a range of entities, which will accelerate these projects consistent with the high safety standards that the public expects from the aviation industry. These projects, once successful, are expected to deliver substantial data and lessons learned to inform the broader regulatory safety and economic framework that will support and oversee the AAM sector.

The focus of this pilot program will be achieving ambitious national objectives in core areas that are in the public interest. Operations that are envisioned include piloted and unmanned approaches to:

• Air Taxis: Short range, on demand flying eVTOLs connecting to ground transport, demonstrating reduced noise impacts.

• Longer-range, fixed wing flights moving people in new forms of advanced regional aircraft with capabilities such as short takeoff and landing that could unlock new and more economically viable possibilities in air travel.

• Cargo: Using novel aircraft, including potentially fixed wing aircraft, to provide cargo services.

• Logistics and supply: Demonstrating new airlift and emergency management services, such as eVTOL operations for servicing offshore energy facilities and improving medical transport capabilities with lower costs and impacts on local communities.

• Increasing Automation Safety: Demonstrating safe integration of aircraft with a range of automation technologies designed to enhance safety and/or efficiency in AAM operations.

While individual projects will likely focus on select national objectives, the DOT and FAA envision that each project would demonstrate broad public benefits such as safety enhancements, quality of life enhancements, workforce development opportunities adding net new and high-paying jobs to the U.S. economy. It would also provide advanced cooperative flow and traffic management with a range of aircraft including UAS, advanced manufacturing in the United States, supply chain security and independence, and cooperation across agencies of the Federal, State, tribal, territorial, and local governments including, for example, security coordination with TSA as needed.

The eIPP implements this national policy under the FAA's general authority to develop plans and policy for the use of the navigable airspace. 49 U.S.C. 40103(b). The eIPP will remove barriers to the initial implementation of AAM to accelerate nationwide operations, and address the requirements set forth in the FAA Reauthorization Act of 2024 (Pub. L. 118-63). Through this eIPP, the DOT and the FAA will work through selected offerors and their partner(s) to enable initial operations with an acceptable level of safety that can be tailored to their aircraft, operation, and location. As a result, that experience will inform the national policy and guidance, rules, best practices and processes that focus on developing scalable models and significantly accelerating outcomes to enable routine eVTOL or other AAM aircraft operations in line with recommendations included in the National Strategy.

The DOT and the FAA are seeking visionary, mission-focused participants who will captivate the imagination of Americans, showcase specific functions that AAM can perform for America in a short period of time, and drive the AAM National Strategy forward. This eIPP will afford opportunities to industry participants positioned to make large contributions to AAM, working with willing SLTT governments as sponsors. Offerors should be willing to coordinate approaches across all projects to gather meaningful data to accelerate solutions for scaling AAM. With safety as our highest priority, we expect this eIPP to provide valuable insight to assist the DOT and the FAA in enabling the United States' advanced aviation aircraft industry to thrive.

Selected Offerors will be expected to demonstrate advances in technological capabilities as well as operational concepts. While ensuring safety through appropriate mitigations, the DOT and the FAA intend to expedite the evaluation and approval of eVTOL and other AAM operations beyond those currently permitted today. Activities under the eIPP will:

• Accelerate the safe and efficient integration of eVTOL and other AAM operations within the NAS;

• Generate data to inform the FAA's development of guidance and regulations;

• Foster and leverage public-private partnerships; and

• Provide opportunities to accelerate commercial-use operations.

I. Program Overview

The success of the eIPP will depend on the mutually beneficial partnerships between SLTT governments and their private sector partners. Successful partnerships will help rapidly establish operations and venues that enhance public awareness and understanding of AAM operations, which enable the use of eVTOL and other AAM aircraft for new and innovative applications. The eIPP will encourage an ambitious scale of pre-certification operations and will incorporate varied solutions where the most successful implementations become standards of practice for future scaling of operations.

The DOT and the FAA will manage this program differently from the Drone IPP that launched in 2017, which focused primarily on evaluation and conducting operations in specific geographic areas within the boundaries of SLTT jurisdictions, including among several states. For this program, DOT will work with capable partners who can demonstrate the viability of new AAM technologies in ways that deliver new benefits to the public—and then to take the lessons learned from these projects to enable such operations at scale, consistent with the highest safety standards.

Consistent with the language of the E.O., any SLTT government (as the eIPP Offeror) with at least one private sector partner(s) and a plan to achieve one of more national objectives is eligible to apply to participate in the eIPP. The SLTT will play a crucial role as the host of operations and planning while bearing a key responsibility to represent local community interests. However, projects should be closely coordinated with Original Equipment Manufacturers (OEMs) and operators and be flexible to adapt and expand as needed to include partners and contributors beyond individual communities for full operational implementation. For instance, a project focused on regional flights as described in this notice will necessarily feature work with more than one community, or a consortia of communities across states, to demonstrate those operational capabilities.

The DOT and the FAA will evaluate all proposals received. A minimum of five participants will be selected. Once a proposal is selected, the Offeror will enter into an Other Transaction Agreement (OTA) with the FAA. The agreement will establish the responsibilities of the parties, describe the concept of operations to be undertaken, and establish any data sharing requirements. The eIPP shall conclude 3 years after the date the first pilot project becomes operational, unless the Secretary of Transportation determines that an extension is warranted in the national interest.

II. How To Apply

The FAA has posted a Request for Proposals (RFP)/Screening Information Request (SIR) 697DCK-25-R-00445 on sam.gov. Prospective offerors must be a State, local, tribal and territorial government governments, in partnership with a private sector partner(s) with demonstrated experience in eVTOL or other AAM development, manufacturing, and operations, or new supporting technologies enabling AAM operations integration into the NAS.

III. Other Transaction Agreement

Once selected, participants will be required to enter into an OTA with the FAA. The OTA will establish the terms of participation in the eIPP and identify the respective rights and responsibilities of both the FAA and the participant. The DOT and the FAA expect to negotiate agreements tailored to the specifics of each proposal.

Participants will engage in periodic exchanges with the FAA regarding the project's purposes, including discussing and sharing the expanded eVTOL or other AAM aircraft capabilities' results and experiences. Participants will adhere to the privacy policies and data collection requirements specified in the agreement. Each participant will bear its own costs.

The agreement will not include the transfer of any authority for airspace management or access upon signing. Any approval of airspace use will be handled in accordance with existing FAA policies and procedures.

The participant will share data with the FAA, as outlined in the agreement, resulting from its development and testing of the operations concepts. Such data will enable the FAA to study the effects of eVTOL or other AAM aircraft integration into the NAS while providing supporting evidence for future policy or regulatory changes.

The FAA will provide a means for the participant and stakeholder partners to submit confidential or proprietary data concerning their operations. However, any operational data and general experience obtained through the partnerships will be available to the public subject to any restrictions on the release of confidential or proprietary information as agreed upon by the parties.

IV. Availability of This Notice

You can obtain a paper copy by sending a request to the Federal Aviation Administration, Office of Rulemaking, ARM-1, 800 Independence Avenue SW, Washington, DC 20591, or by calling (202) 267-9680. Make sure to identify the docket number or notice number of this proposal.

Issued in Washington, DC, on September 12, 2025.
Wade E.K. Terrell,
Acting Director, Advanced Air Mobility Operations Division.

[FR Doc. 2025-17844 Filed 9-12-25; 11:15 am]

BILLING CODE 4910-13-P